DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Children Affected by Methamphetamine in Family Drug Treatment Court—NEW

In 2010, the Substance Abuse and Mental Health Services Administration (SAMHSA), Center for Substance Abuse Treatment (CSAT), provided funding to 12 existing Family Treatment Drug Courts (FTDCs) for enhancement and/or expansion of their FTDC's capabilities to provide psycho-social, emotional and mental health services to children (0-17 years) and their families who have methamphetamine use disorders and involvement in child protective services. This program was authorized in House Report 111-220 accompanying HR 3293 in 2010. The Committee language stated that “these grants will support a collaborative approach, including treatment providers, child welfare specialists, and judges, to provide community-based social services for the children of methamphetamine-addicted parents,” and were to be awarded to Family Dependency Treatment Drug Courts.

The proposed data collection for the grantees, referred to as the Children Affected by Methamphetamine in Family Treatment Drug Court (CAM-FTDC) project, will provide knowledge about the services needed and provided to these and similar families. The data to be collected by the CAM-FTDC program is SAMHSA's first Federal data collection effort focused specifically on the needs of children whose parents have a substance use disorder and are participating in an FTDC and on effective strategies to address their needs. The information collected through the CAM-FTDC program will benefit SAMHSA by providing an in-depth understanding of the needs of the children and families served by CAM-FTDC. Findings from this program will provide SAMHSA with valuable information regarding appropriate service interventions for this population and, ultimately, inform SAMHSA on how the agency can best meet the needs of future drug endangered children. The results from this data collection will serve to inform future decisions regarding funding by SAMHSA as well as establish an evidence base for the practices undertaken for other localities and programs implementing Family Treatment Drug Courts.

The evaluation of the CAM-FTDC project will collect data on children, parents/caregivers, family functioning and interagency collaboration. The domains specified in the Request for Applications (RFA) are: (1) Child Outcomes; (2) Parent/Caregiver Outcomes; (3) Family Functioning; and, (4) Interagency Collaboration.

To the greatest extent possible, the data elements are operationally defined using standard definitions in child welfare and substance abuse treatment. The use of standard data definitions will reduce the data collection burden on grantees as these variables are collected through data collection procedures that currently exist through all publically funded child welfare and substance abuse treatment systems. The CAM-FTDC performance measures are data currently collected by programs as part of their normal operations (e.g., placement status in child welfare services, substance abuse treatment entry dates). Thus, no primary data collection from clients will be required as the grantees will be abstracting existing data. The information utilized for the North Carolina Family Assessment Scale rating is obtained during the intake interview that sites engage in when determining program eligibility and suitability. If needed, the CAM FTDC staff member may supplement this information by obtaining information from other staff that interact with the client (i.e., the social worker familiar with the family) or during a home visit (if this is part of their program activities).

It should be re-emphasized that the CAM-FTDC projects are expansions or enhancements of FTDC partnerships that currently have existing relationships (and information sharing/confidentiality agreements) in place. It is through this existing information sharing forum that the CAM grantees will be able to obtain the requisite child welfare and substance abuse treatment performance measures.

The grantees will use electronic abstraction and secondary data collection for elements that are already being collected by counties and States in their reporting requirements of Federally-mandated data. There are five data sources that will be used to collect and report the performance measures: Two Federal child welfare data sets, a Federal substance abuse treatment data set, the North Carolina Family Assessment Scale, and an interagency collaboration survey administered to CAM FTDC program staff.

Exhibit 1 presents the estimated total cost burden associated with the collection of the CAM-FTDC data elements. The following estimates represent the minimum CAM-FTDC clients required to be served by the CAM-FTDC grantees (i.e., a minimum of 20 methamphetamine-using clients is required in order to have a sufficient number of participants in the program × 12 grantees). The identified respondent for the annualized hour burden for the child, parent/caregiver and family functioning elements is the grantee staff person who will extract data from CAM-FTDC client. For the interagency collaboration measure, the respondent is identified as a CAM-FTDC staff member. It is estimated that 10 CAM-FTDC staff members from each of the 12 grantees will complete the interagency collaboration measure. The estimated total cost of the time that will be spent completing data collection is $18,400 (total number of respondent hours × $18.40, the estimated average hourly wages for adults as published by the Bureau of Labor Statistics, 2010).

Exhibit 1—Annualized Hour Burden
Form/Instrument | Number of records | Responses per record | Total responses | Hours per response ¹ | Total hour burden
CAM Form—Secondary extraction (12 sites × 20 families) | 240 | 2 | 480 | .5 | 240
North Carolina Family Assessment Form—Scale-General + Reunification (NCFAS − G + R) (12 sites × 20 families) | 240 | 2 | 480 | .5 | 240
Collaborative Capacity Instrument—(CCI) (12 sites × 10 families) | 120 | 1 | 120 | .33 | 39.6
Total | 600 |  | 1,080 |  | 519.6
¹ The estimated response burden includes the extractions and uploads to the CAM Form and the North Carolina Family Assessment Form.

Send comments to Summer King, SAMHSA Reports Clearance Officer, Room 8-1099, One Choke Cherry Road, Rockville, MD 20857 or e-mail a copy to summer.king@samhsa.hhs.gov. Written comments should be received within 60 days of this notice.

Dated: May 27, 2011.
Elaine Parry,
Director, Office of Management, Technology and Operations.

[FR Doc. 2011-14095 Filed 6-7-11; 8:45 am]

BILLING CODE 4162-20-P